DEPARTMENT OF TRANSPORTATION

Federal Railroad Administration

[Docket Number FRA-2022-0081]

Petition for Waiver of Compliance

Under part 211 of title 49 Code of Federal Regulations (CFR), this document provides the public notice that on August 25, 2022, Virginia & Truckee Railroad Company (VT) petitioned the Federal Railroad Administration (FRA) for a waiver of compliance from certain provisions of the Federal railroad safety regulations contained at 49 CFR 230.17, One thousand four hundred seventy-two (1472) service day inspection. FRA assigned the petition Docket Number FRA-2022-0081.

Specifically, VT requests relief for steam locomotive VTRR #29, which is used in public tourist excursions in Virginia City, Nevada. VT seeks to extend the period in which the locomotive's 1472 service day inspection is due from June 11, 2023, to December 31, 2023 (the end of the 2023 operating season). VT states that VTRR #29 will accumulate fewer than 1200 service days by December 31, 2023. In support of its request, VT explains that “a new dry pipe was installed” in VTRR #29 “in 2021 when the boiler interior was entered and rigorously inspected, besides at each internal annual inspection.” VT also notes it exercises complete control of the operation, and the inspection, maintenance, and repairs of the locomotive.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by October 24, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-19435 Filed 9-7-22; 8:45 am]

BILLING CODE 4910-06-P